DEPARTMENT OF HEALTH AND HUMAN SERVICES

Centers for Medicare & Medicaid Services

[Document Identifier: CMS-10141, CMS-R-246, CMS-10305 and CMS-10313]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Revision of a currently approved collection; Title of Information Collection: Medicare Prescription Drug Benefit Plan; Use: Section 101 of Title I of the Medicare Prescription Drug, Improvement, and Modernization Act of 2003 added sections 1860D-1 through D-42 to establish this new program. Part D plans use the information discussed to comply with the eligibility and associated Part D participating requirements. CMS will use this information to approve contract applications, monitor compliance with contract requirements, make proper payment to plans, and to ensure that correct information is disclosed to enrollees, both potential enrollees and enrollees. Form Number: CMS-10141 (OMB#: 0938-0964); Frequency: Yearly; Affected Public: Individuals and households, and Business or other for-profit and Not-for-profit institutions; Number of Respondents: 19,937,660; Total Annual Responses: 43,153,271; Total Annual Hours: 36,520,101. (For policy questions regarding this collection contact Christine Hinds at 410-786-4578. For all other issues call 410-786-1326.)

2. Type of Information Collection Request: Revision of a currently approved collection; Title of Information Collection: Consumer Assessment of Health Care Providers and Systems (CAHPS); Use: CMS is required to collect and report information on the quality of health care services and prescription drug coverage available to persons enrolled in a Medicare health or prescription drug plan under provisions in the Medicare Prescription Drug, Improvement, and Modernization Act of 2003 (MMA). Specifically, the MMA under Sec. 1860D-4 (Information to Facilitate Enrollment) requires CMS to conduct consumer satisfaction surveys regarding Medicare prescription drug plans and Medicare Advantage plans and report this information to Medicare beneficiaries prior to the Medicare annual enrollment period. The Medicare CAHPS survey meets the requirement of collecting and publicly reporting consumer satisfaction information. Form Number: CMS-R-246 (OMB#: 0938-0732); Frequency: Yearly; Affected Public: Individuals and households, and Business or other for-profit and Not-for-profit institutions; Number of Respondents: 567,324; Total Annual Responses: 567,324; Total Annual Hours: 242,376. (For policy questions regarding this collection contact Elizabeth Goldstein at 410-786-6665. For all other issues call 410-786-1326.)

3. Type of Information Collection Request: New collection; Title of Information Collection: Medicare Part C and Part D Data Validation (42 CFR 422.516g and 423.514g); Use: Organizations contracted to offer Medicare Part C and Part D benefits are required to report data to the Centers for Medicare & Medicaid Services on a variety of measures. In order for the data to be useful for monitoring and performance measurement, the data must be reliable, valid, complete, and comparable among sponsoring organizations. To meet this goal, CMS is developing reporting standards and data validation specifications with respect to the Part C and Part D reporting requirements. These standards will provide a review process for Medicare Advantage Organizations (MAOs), Cost Plans, and Part D sponsors to use to conduct data validation checks on their reported Part C and Part D data. Form Number: CMS-10305 (OMB#: 0938-NEW); Frequency: Yearly; Affected Public: Business or other for-profit; Number of Respondents: 710; Total Annual Responses: 710; Total Annual Hours: 231,410. (For policy questions regarding this collection contact Terry Lied at 410-786-8973. For all other issues call 410-786-1326.)

4. Type of Information Collection Request: New collection; Title of Information Collection: New Quality Measures for Medicare Advantage Organizations; Use: For CMS to strengthen the oversight of quality improvement programs implemented by Medicare Advantage organizations, there is a need to collect additional data on quality and outcomes measures in order to better track plan performance. Examples of additional areas on which CMS plans to collect data are post-surgical infections or patient falls. Collection will begin during contract year 2012. The specific data elements that will be collected are currently under development. Form Number: CMS-10313 (OMB#: 0938-NEW); Frequency: Yearly; Affected Public: Business or other for-profit and Not-for-profit institutions; Number of Respondents: 624; Total Annual Responses: 624; Total Annual Hours: 624,000. (For policy questions regarding this collection contact Sabrina Ahmed at 410-786-7499. For all other issues call 410-786-1326.)

To obtain copies of the supporting statement and any related forms for the proposed paperwork collections referenced above, access CMS' Web site at http://www.cms.hhs.gov/PaperworkReductionActof1995, or E-mail your request, including your address, phone number, OMB number, and CMS document identifier, to Paperwork@cms.hhs.gov, or call the Reports Clearance Office on (410) 786-1326.

In commenting on the proposed information collections please reference the document identifier or OMB control number. To be assured consideration, comments and recommendations must be submitted in one of the following ways by June 18, 2010:

1. Electronically. You may submit your comments electronically to http://www.regulations.gov. Follow the instructions for “Comment or Submission” or “More Search Options” to find the information collection document(s) accepting comments.

2. By regular mail. You may mail written comments to the following address: CMS, Office of Strategic Operations and Regulatory Affairs, Division of Regulations Development, Attention: Document Identifier/OMB Control Number, Room C4-26-05, 7500 Security Boulevard, Baltimore, Maryland 21244-1850.

Dated: April 13, 2010.
Michelle Shortt,
Director, Regulations Development Group, Office of Strategic Operations and Regulatory Affairs.

[FR Doc. 2010-8958 Filed 4-16-10; 8:45 am]

BILLING CODE 4120-01-P